DEPARTMENT OF STATE

[Public Notice: 9649]

U.S. Nationals Entitled to Pension From the Government of Belgium

AGENCY: Department of State.

ACTION: Notice of request for contact information.

SUMMARY: This notice concerns all U.S. nationals who are entitled to pension payments from the Government of Belgium due to their work in the former Belgian overseas territories or as survivors of those who worked in such territories.

DATES: All submissions must be postmarked by October 3, 2016 in order to receive consideration.

ADDRESSES: Submissions may be emailed to BelgiumClaims@state.gov or mailed to: U.S. Department of State, Office of the Legal Adviser, Suite 203, South Building, 2430 E. Street NW., Washington, DC 20037-2851.

FOR FURTHER INFORMATION CONTACT: Office of International Claims and Investment Disputes, at (202) 776-8360.

SUPPLEMENTARY INFORMATION: This notice concerns all U.S. nationals who are entitled to pension payments from the Government of Belgium due to their work in the former Belgian overseas territories or as survivors of those who worked in such territories. These individuals, along with the estates of such individuals who died between January 1, 2012 and September 15, 2015, may be entitled to additional amounts in connection with their pension payments.

In order to evaluate whether compensation can be granted, the Department of State requests all such individuals, or their estate representatives, to contact the Department of State in writing and provide their contact information.

Individuals who have forwarded information regarding their pensions to the Department of State at the request of the Government of Belgium need not do so again.

The information is sought pursuant to the State Department Basic Authorities Act, 22 U.S.C. 2651a, 2656 and 2668a, as well as the 1982 Agreement between the United States of America and the Kingdom of Belgium on Social Security and related agreements. The information solicited will be used to determine whether persons are entitled to compensation under the Belgium Claims program. Certain information may be made available to other government agencies that might be involved in the processing of claims, principally the Department of the Treasury. The information may also be released to other government agencies having statutory or other lawful authority to maintain such information. More information on the Routine Uses for the system can be found in the System of Records Notice for Records of the Office of the Assistant Legal Adviser for International Claims and Investment Disputes (STATE-54). Providing this information is voluntary, but if you do not provide this information, we may not be able to determine whether you are entitled to compensation under this program.

Dated: July 29, 2016.
Lisa J. Grosh,
Assistant Legal Adviser International Claims and Investment Disputes.

[FR Doc. 2016-18536 Filed 8-3-16; 8:45 am]

BILLING CODE 4710-08-P